DEPARTMENT OF COMMERCE

National Oceanic and Atmospheric Administration

50 CFR Part 660

[Docket No. 240514-0137]

RIN 0648-BM47

Fisheries Off West Coast States; West Coast Salmon Fisheries; 2024 Specifications and Management Measures

AGENCY: National Marine Fisheries Service (NMFS), National Oceanic and Atmospheric Administration (NOAA), Commerce.

ACTION: Final rule.

SUMMARY: Through this final rule, NMFS establishes fishery management measures for the ocean salmon fisheries off Washington, Oregon, and California for the season beginning May 16, 2024, and ending May 15, 2025 (the 2024 ocean salmon fishing season), under the authority of the Magnuson-Stevens Fishery Conservation and Management Act (MSA). The fishery management measures establish fishing areas, seasons, quotas, legal gear, recreational fishing days and catch limits, harvest guidelines, possession and landing restrictions, and minimum lengths for salmon taken in the U.S. Exclusive Economic Zone (EEZ) off Washington, Oregon, and California. The management measures are intended to prevent overfishing while achieving, on a continuing basis, the optimum yield from the fishery, and to apportion the ocean harvest equitably among treaty Indian, and non-Indian commercial and recreational fisheries. The measures are also intended to allow a portion of the salmon runs to escape the ocean fisheries in order to provide for spawning escapement, comply with applicable law, and to provide fishing opportunity for fisheries occurring in State waters.

DATES: This final rule is effective from 0001 hours Pacific Daylight Time, May 16, 2024, until the effective date of the 2025 management measures, as published in the Federal Register, which we expect to be 0001 hours Pacific Daylight Time May 16, 2025.

ADDRESSES: The documents cited in this document are available on the Pacific Fishery Management Council's (Council's) website (www.pcouncil.org).

FOR FURTHER INFORMATION CONTACT: Shannon Penna at 562-980-4239, Email: Shannon.Penna@noaa.gov.

SUPPLEMENTARY INFORMATION:

Background

The ocean salmon fisheries in the EEZ (3-200 nautical miles (nmi); 5.6-370.4 kilometers (km)) off the coasts of Washington, Oregon, and California are managed under the Pacific Coast Salmon Fishery Management Plan (FMP). Regulations at 50 CFR part 660, subpart H, provide the mechanism for making preseason and inseason adjustments to the management measures within limits set by the FMP by notification in the Federal Register. Regulations at 50 CFR 660.408 govern the establishment of annual management measures.

This rule implements the management measures for the 2024 ocean salmon fishing season.

Process Used To Establish 2024 Management Measures

Ocean salmon fishery management measures are established via a collaborative process with the Council, States, tribes, fishing industry participants, anglers, and the public. The Council announced its annual preseason management process for the 2024 ocean salmon fishing season in the Federal Register on February 13, 2024 (89 FR 10042). NMFS published an additional notice of opportunity to submit public comments on the 2024 ocean salmon fishery management measures in the Federal Register on March 12, 2024 (89 FR 17834). These notices announced the availability of key documents, the dates and locations of meetings and public hearings regarding determining the annual proposed and final modifications to ocean salmon fishery management measures, and instructions on how to comment on those measures. The agendas for the March and April Council meetings were published in the Federal Register (89 FR 12319, February 16, 2024, and 89 FR 19815, March 20, 2024), and posted on the Council's website prior to the meetings.

In accordance with the FMP, the Council's Salmon Technical Team (STT) and economist prepared four reports for the Council, its advisors, and the public. All four reports were made available on the Council's website upon their completion. The first of the reports, “Review of 2023 Ocean Salmon Fisheries,” was prepared in February when the first increment of scientific information necessary for crafting management measures for the 2024 ocean salmon fishing season became available. The first report summarizes biological and socio-economic data from the 2023 ocean salmon fisheries and assesses the performance of the fisheries with respect to the 2023 management objectives for salmon stocks and stock complexes as well as provides historical information for comparison. The second report, “Preseason Report I Stock Abundance Analysis and Environmental Assessment Part 1 for 2024 Ocean Salmon Fishery Regulations” (PRE I), provides the 2024 salmon stock abundance projections and analyzes how the salmon stocks defined in the FMP and Council management goals would be affected if the 2023 management measures (the No-Action Alternative under the National Environmental Policy Act (NEPA)) were continued for the 2024 ocean salmon fishing season. The completion of PRE I is the initial step in developing and evaluating the full suite of preseason alternatives.

Following the completion of the first two reports, the Council met from March 5 to 11, 2024, to develop 2024 management alternatives for proposal to the public and consideration under NEPA. The Council proposed three alternatives for commercial and recreational fisheries management and three alternatives for treaty Indian fisheries management for analysis and public comment. These alternatives consisted of various combinations of management measures designed to ensure that stocks of coho and Chinook salmon meet conservation goals, to provide for ocean harvests of more abundant stocks, to provide equitable sharing of harvest among ports and gear sectors, and to provide for the exercise of Indian treaty fishing rights. After the March Council meeting, the Council's STT and economist prepared a third report, “Preseason Report II Proposed Alternatives and Environmental Assessment Part 2 for 2024 Ocean Salmon Fishery Regulations” (PRE II), which analyzes the effects of the proposed 2024 ocean salmon fishing season management alternatives.

The Council sponsored public hearings in person to receive testimony on the proposed alternatives on March 25, 2024, for Washington and California, and on March 26, 2024, for Oregon. In addition, the States of Washington, Oregon, and California sponsored meetings in various forums that also collected public testimony. The Council also received public testimony at the March and April meetings and electronic submissions via the Council's electronic portal and via https://www.regulations.gov.

Members of several federally recognized tribes including tribes with treaty rights for salmon harvest testified at the March and April Council meetings. Additional tribal comments were submitted in writing. Tribes emphasized the cultural importance of salmon to their communities, expressed concerns over the uncertainty of forecasts for some stocks in 2024, and urged the Council to be conservative in setting the salmon seasons. Some Tribes addressed several issues in the Columbia Basin such as habitat alteration and increase in avian predation. Tribes also expressed concerns that higher harvest levels could negatively impact hatchery brood collection and spawning escapement to local tributaries. Tribes are doing their part to improve habitat, raise hatchery fish, and expand the distribution of salmon to their historic production areas and want to ensure that the Council's actions are supporting those actions.

The Council adopted proposed 2024 ocean salmon management recommendations at its April meeting. The Council's STT and economist then prepared a fourth report, “Preseason Report III Analysis of Council-Adopted Management Measures for 2024 Ocean Salmon Fisheries” (PRE III), which analyzes the environmental and socioeconomic effects of the Council's final recommendations (the Council's preferred alternative under NEPA). The Council transmitted the recommended management measures to NMFS on April 22, 2024, and published them on its website (https://www.pcouncil.org).

Under the FMP, the ocean salmon management cycle begins May 16 and continues through May 15 of the following year. This final rule is effective on May 16, 2024, consistent with the FMP, and governs most federally-managed ocean salmon fisheries. Fisheries that begin prior to May 16, 2024, are governed by the final rule implementing the salmon fishery management measures for the 2023 ocean salmon fishing season (88 FR 30235, May 11, 2023). Salmon fisheries scheduled to begin before May 16, 2024, under the 2023 rule, are:

• Commercial ocean salmon fisheries from the U.S./Canada border to the U.S./Mexico border,

• Recreational ocean salmon fisheries from Cape Falcon, OR, to Humbug Mountain, OR,

• Recreational ocean salmon fisheries from the Oregon/California border to the U.S./Mexico border, and

• Treaty Indian troll ocean salmon fisheries north of Cape Falcon.

Several fisheries scheduled to open between March 15, 2024, and May 15, 2024, were modified through inseason action to close the fisheries in response to updated salmon stock forecast information for 2024. For purposes of analyzing the impacts of these fisheries on individual stocks relative to the applicable objectives in the FMP, Council analysts assumed fisheries between March 15 to May 15, 2024, would be conducted under the 2023 management measures as modified by the subsequent inseason actions under 50 CFR 660.409.

National Environmental Policy Act

The environmental assessment (EA) for this action comprises the Council's documents described above (PRE I, PRE II, and PRE III), providing an analysis of environmental and socioeconomic effects under NEPA. The EA and its related Finding of No Significant Impact are posted on the NMFS West Coast Region (WCR) website (https://www.fisheries.noaa.gov/s3/2024-05/ocean-salmon-fisheries-management-measures-ea-fonsi.pdf).

Resource Status

Stocks of Concern

The FMP requires that the fisheries be managed to meet escapement-based annual catch limits (ACLs), Endangered Species Act (ESA) consultation requirements, obligations of the Pacific Salmon Treaty (PST) between the U.S. and Canada, and other conservation objectives. In addition, all regulations must be consistent with other applicable laws. The ocean salmon fisheries managed under the FMP are mixed-stock fisheries, and NMFS uses “weak stock” management to avoid exceeding limits for the stocks with the most constraining limits. Abundance forecasts for individual salmon stocks can vary significantly from one year to the next; therefore, the stocks that constrain the fishery in one year may differ from those that constrain the fishery in the next. For 2024, the stocks described below will constrain fisheries.

Fisheries south of Cape Falcon, Oregon, are limited in 2024 primarily by conservation concerns for Klamath River fall-run Chinook salmon (KRFC), Sacramento River fall-run Chinook salmon (SRFC), and Southern Oregon/Northern California Coast (SONCC) coho salmon. In 2018, NMFS determined that the KRFC stock was overfished, as defined under the MSA and the FMP. In 2024, KRFC continues to be overfished and is managed under a rebuilding plan (85 FR 75920, November 27, 2020).

Fisheries north of Cape Falcon are limited by conservation requirements for the natural spawning component of the ESA-listed lower Columbia River coho salmon (Lower Columbia Natural or LCN coho salmon) Evolutionarily Significant Unit (ESU) and Puget Sound (PS) Chinook salmon stocks (see Table 3-1 in the FMP and NMFS' guidance letter to the Council, February 29, 2024). The limitations imposed to protect these stocks are described below. The management measures for 2024 are designed to avoid exceeding these limitations. Queets River spring/summer Chinook salmon continue to meet the criteria for being classified as overfished based on the most recent 3-year geometric mean of spawning escapement (2020-2022), and a rebuilding plan is currently under development. However, it was not a limiting stock in planning the 2024 ocean salmon fishing season.

KRFC (non-ESA-listed): Abundance for this non-ESA-listed stock in the last decade has been historically low, and the stock continues to meet the criteria for overfished based on spawning escapement in 2021, 2022, and 2023 and is managed under a rebuilding plan consistent with the requirements of the FMP. The FMP defines “overfished” status in terms of a 3-year geometric mean escapement level and whether it is below the minimum stock size threshold (MSST). The KRFC salmon stock has been below its conservation objective in 7 of the last 10 years and has been managed under de minimus exploitation rates that apply when forecast escapement is below the level associated with maximum sustainable yield (SMSY) since 2020. Based on the current harvest control rule, the 2024 forecast allows only de minimis fishing this year, i.e., a total allowable exploitation rate of 20 percent (including all ocean and river fisheries, including tribal fisheries). This limit will constrain fisheries south of Cape Falcon. The 2024 management measures are forecast to result in a spawning escapement of 36,511 KRFC natural spawners, which is above the stock's MSST (30,525). A natural-area escapement of 36,511 adults would represent the 26th lowest value over the past 47 years of data.

SRFC (non-ESA-listed): In 2021, NMFS declared the SRFC salmon stock rebuilt (87 FR 25429) due to several years of higher escapements; however, escapements in recent years have once again been low compared with the stock's conservation objective and caution is warranted to reduce the likelihood that the stock becomes overfished again. Spawner abundance has been below the escapement floor of 122,000 associated with the FMP objective in 5 of the last 8 years. The 3-year geometric mean of spawners is now 95,569 (2021, 2022, and 2023) as compared with the MSST of 91,500 at which the stock would meet the criteria of overfished. Commercial fisheries south of Cape Falcon will be heavily constrained in Oregon and closed in California owing to its low abundance forecast. The adopted management measures result in a projected escapement of 180,061, which exceeds the 2024 objective of 180,000 hatchery and natural area adult spawners. The Sacramento River also experienced low flows and high temperatures in recent years associated with decades of frequent droughts; these conditions have adversely affected the stock. The dominant year class contributing to 2024 fisheries was affected by below-average freshwater and early marine survival conditions.

SONCC coho salmon (ESA-listed threatened): The SONCC coho salmon ESU has been listed as threatened under the ESA since 1997. Conservation concerns for ESA-listed SONCC coho salmon will limit fisheries south of Cape Falcon in 2024. The SONCC coho salmon ESU consists of all naturally produced populations of coho salmon from coastal streams between Cape Blanco, OR, and Punta Gorda, CA, and limited artificial propagation programs. Under the FMP, ESA consultation standards are used to manage ESA-listed stocks, including SONCC coho salmon. In April 2022, the agency approved new harvest control rules that limited the total fishery (marine and freshwater) exploitation rate to 15 percent for all populations within the SONCC ESU except the Trinity River coho salmon population, which is limited to 16 percent. Coho salmon retention is prohibited in all California ocean salmon fisheries. Salmon in 2024 will be managed consistent with these harvest control rules.

Lower Columbia River (LC) coho salmon (ESA-listed threatened): The LC coho salmon ESU has been listed as threatened under the ESA since 2005. In 2015, NMFS conducted the most recent ESA section 7 consultation and issued a biological opinion regarding the effects of Federal fisheries and fisheries in the Columbia River on LC coho salmon. The opinion analyzed the use of a harvest matrix to manage impacts on LC coho salmon. As described above, the FMP manages LCN coho salmon, the natural component of the LC coho salmon ESU. Under the matrix, the allowable harvest in a given year depends on indicators of marine survival and parental escapement to spawning. In 2024, Federal ocean salmon fisheries and commercial and recreational salmon fisheries in State waters including the mainstem Columbia River below Bonneville Dam must be managed subject to a total exploitation rate limit on LCN coho salmon not to exceed 23 percent. In 2024, LCN coho salmon will constrain these salmon fisheries, particularly those north of Cape Falcon, such that, when combined with commercial and recreational fisheries in the mainstem Columbia River, the ESA requirement is met.

PS Chinook salmon (ESA-listed threatened): The PS Chinook salmon ESU was listed as threatened in 1999. Impacts from Federal fisheries are addressed through a 2004 biological opinion. Generally, these impacts are quite low and within the range contemplated in the 2004 opinion. However, because the PS Chinook salmon ESU is impacted by salmon fisheries in Puget Sound and associated freshwater fisheries (collectively referred to as “inside” fisheries), the impacts of Federal and State-water fisheries, including those in Puget Sound, on PS Chinook salmon are evaluated together, and that analysis forms the basis of a package of Puget Sound fisheries management measures to which the State of Washington and Indian tribes with treaty rights to fish in Puget Sound have agreed through a negotiation process, the North of Falcon forum, that runs concurrent with the Federal salmon season planning process. In 2024, fisheries north of Cape Falcon will be constrained so that, when combined with impacts from inside fisheries, conservation objectives for several populations (e.g., Snohomish, Stillaguamish) in the PS Chinook salmon ESU at low abundance in 2024 are met.

Other Resource Issues

Southern Resident Killer Whale (SRKW) (ESA-listed endangered): The SRKW distinct population segment was listed under the ESA as endangered in 2005 (70 FR 69903, November 18, 2005). In 2021, NMFS approved amendment 21 to the FMP (86 FR 51017, September 14, 2021), which establishes a Chinook salmon annual abundance management threshold below which specific measures to limit the effects of the ocean salmon fishery on Chinook salmon prey availability for SRKWs are implemented. These measures include time and area closures, a quota limitation for the north of Cape Falcon management area, and temporal shifts in fishing. This forecast abundance compared with the Chinook salmon abundance threshold is reported annually in the above-referenced preseason reports as required by the FMP.

Because the pre-season estimate of the abundance of Chinook salmon in 2024 exceeds the threshold in the FMP, additional management measures are not required by the FMP including amendment 21 (Preseason Report III; PFMC 2024).

ACLs and Status Determination Criteria

ACLs are required for all stocks or stock complexes in the fishery that are not managed under an international agreement, listed under the ESA, or designated as hatchery stocks. For salmon, these reference points are defined in terms of spawner escapement. ACLs are set for two Chinook salmon stocks, SRFC and KRFC, and one coho salmon stock, Willapa Bay natural coho salmon. The SFRC and KRFCsalmon stocks are indicator stocks for the Central Valley Fall Chinook salmon complex and the Southern Oregon/Northern California Chinook salmon complex, respectively. The Far North Migrating Coastal Chinook salmon complex (FNMC) includes a group of Chinook salmon stocks that are caught primarily in fisheries north of Cape Falcon and other fisheries that occur north of the U.S./Canada border. No ACL is set for FNMC stocks because they are managed subject to provisions of the PST between the U.S. and Canada (the MSA provides an international exception from ACL requirements that applies to stocks or stock complexes subject to management under an international agreement, which NMFS defines by regulation “any bilateral or multilateral treaty, convention, or agreement which relates to fishing and to which the U.S. is a party” (50 CFR 600.310(h)(1)(ii)). Other Chinook salmon stocks caught in fisheries north of Cape Falcon are ESA-listed or hatchery-produced and are managed consistent with ESA consultations, hatchery goals, or the provisions of the PST. Willapa Bay natural coho salmon is the only coho salmon stock for which an ACL is set, as the other coho salmon stocks in the FMP are either ESA-listed, hatchery-produced, or managed under the PST.

ACLs for salmon stocks are escapement-based, which means they establish a number of adults that must escape the fisheries to return to the spawning grounds. ACLs are set based on the annual potential spawner abundance forecast and a fishing rate reduced to account for scientific uncertainty. In addition to ACLs, SRFC and KRFC have conservation objectives expressed in terms of escapement goals that were developed prior to the requirement for ACLs. Where the conservation objectives exceed the ACLs, the management measures must achieve the conservation objectives.

For SRFC in 2024, the overfishing limit (OFL) is SOFL = 213,622 (potential spawner abundance forecast) multiplied by 1− FMSY (1 − 0.78) or 46,997 returning spawners (FMSY is the fishing mortality rate that would result in maximum sustainable yield—MSY). SABC (the spawner escapement that is associated with the acceptable biological catch) is 213,622 multiplied by 1 − FABC (1 − 0.70) (FMSY reduced for scientific uncertainty = 0.70) or 64,087. The SACL is set equal to SABC, i.e., 64,087 spawners. The adopted management measures provide for a projected SRFC spawning escapement of 180,061.

For KRFC in 2024, SOFL is 45,639 (potential spawner abundance forecast) multiplied by 1−FMSY (1 − 0.71), or 13,235 returning spawners. SABC is 45,639 multiplied by 1 − FABC (1 − 0.68) (FMSY reduced for scientific uncertainty = 0.68) or 14,605 returning spawners. SACL is set equal to SABC, i.e., 14,605 spawners. The adopted management measures provide for a projected KRFC spawning escapement of 36,511.

For Willapa Bay natural coho salmon in 2024, SOFL = 42,236 (potential spawner abundance forecast) multiplied by 1−FMSY (1 − 0.74) or 10,981 returning spawners. SABC is 42,236 multiplied by 1 − FABC (1 − 0.70) (FMSY reduced for scientific uncertainty = 0.70) or 12,671. SACL is set equal to SABC, i.e., 12,671 spawners. The adopted management measures provide for a projected Willapa Bay natural coho salmon spawning escapement of 29,512.

In summary, the 2024 management measures are expected to result in escapements greater than required to meet the ACLs for all three stocks with defined ACLs.

Public Comments

The Council invited written comments on developing 2024 salmon management measures in their notice announcing public meetings and hearings (89 FR 10042, February 13, 2024). At its March meeting, the Council developed three alternatives for 2024 commercial and recreational salmon management measures having a range of quotas, season structure, and impacts, from the least restrictive in Alternative I to the most restrictive in Alternative III, as well as three alternatives for 2024 North of Cape Falcon treaty Indian troll salmon management measures. These alternatives are described in detail in PRE II. Subsequently, comments were taken at three public hearings held in March, staffed by representatives of the Council, the States, and NMFS. The Council received 619 written comments via their electronic portal and 9 oral comments on 2024 ocean salmon fisheries including from members of the public that commented several times. The three public hearings were attended by a total of 125 people; 53 people provided oral comments. Comments came from individual fishers, fishing associations, fish buyers, processors, the general public, and conservation organizations. Written and oral comments addressed the 2024 management alternatives described in PRE II and generally expressed preferences for a specific alternative or for particular season structures. All written comments were made available via the Council's online briefing books for the March and April 2024 Council meetings. In addition to comments collected at the public hearings and those submitted directly to the Council, several people provided oral comments at the March and April 2024 Council meetings. Written and oral comments received were considered by the Council, which includes a representative from NMFS, in developing the recommended management measures transmitted to NMFS on April 22, 2024. NMFS also invited comments to be submitted directly to the Council or NMFS via the Federal Rulemaking Portal (https://www.regulations.gov) in a notice (89 FR 17834, March 12, 2024); NMFS received no comments via the Federal Rulemaking Portal.

Comments on alternatives for commercial salmon fisheries. Many written comments were from commercial salmon fishers from California. Of those written comments, the majority supported Alternative III (i.e., closure of commercial salmon fishing). Those testifying on north of Cape Falcon commercial salmon fisheries at the Washington hearing supported the non-treaty quotas and season structure from Alternative I including the 85,000 total allowable catch for Chinook salmon and 105,000 coho salmon. Alternative I allows for increased access to the Chinook salmon total allowable catch (TAC) in the spring and to take advantage of market demands for troll-caught salmon. They also expressed support for inseason management as an invaluable tool to meet conservation objectives while allowing flexibility to attain the full quota. Those testifying on south of Cape Falcon commercial salmon fisheries at the Oregon hearing supported Alternative I and III. For Alternative III in the area from Cape Falcon to Humbug Mountain, commenters requested that the Council consider a higher trip limit than the proposed 100 coho salmon. Due to a low participation rate and diminishing of the fleet, a higher trip limit would provide more opportunities to access the fish allocation. Those testifying at the California hearing largely supported Alternative III with a full closure given the low forecasts for California salmon stocks. This rule adopts commercial fishing measures north and south of Cape Falcon that are within the range of the alternatives considered.

Comments on alternatives for recreational fisheries. Those testifying on fishery management alternatives north of Cape Falcon favored Alternative I and opening the ocean recreational fishery as early as possible with a season structure that allowed for maximum opportunity and avoiding any early closures, particularly before September, noting the negative economic implications on businesses that support the fisheries. Those commenting on fishery alternatives south of Cape Falcon in Oregon expressed a range of opinions on the alternatives. For Alternatives I and III, the commenters were in favor of a mark-selective Chinook salmon opportunity rather than no Chinook salmon retention. In addition, one commenter expressed concerns over the level of the SRFC impacts going to the in-river fishery under Alternatives II and III which did not seem fair and equitable when compared to the level of SRFC impacts available to Oregon fisheries. Comments from California had mixed support for fishing under Alternative I or a closure of all areas under Alternative III. The Council adopted recreational fishing measures north and south of Cape Falcon that are within the range of alternatives considered.

Additional comments were made regarding the fisheries in southern Oregon from Cape Falcon to Humbug Mountain. We respond to key comments below.

Comment 1: The commenter noted that Alternative III for the Cape Falcon to Humbug Mountain commercial troll fishery provides for a September 1 to 30 non-mark-selective coho salmon season with a quota of 10,000 non-marked coho salmon (which means total harvest may exceed 10,000 coho salmon). The commenter asserted that to comply with the FMP section 5.3.2, any coho salmon allocation to the commercial troll fishery in September should be contingent upon sufficient coho salmon quota being first allocated to the recreational fishery to reasonably ensure completion of all scheduled recreational coho salmon fisheries.

Response: Ocean salmon fisheries are designed to ensure conservation goals for salmon stocks in the FMP, including ESA-listed stocks, are met. For 2024 ocean salmon fisheries, ESA-listed LC and SONCC coho salmon stocks constrained ocean salmon fisheries south of Cape Falcon. The goal in developing the 2024 salmon season was to provide opportunity and access to relatively healthy salmon runs coming back to Oregon while remaining within the overall management guidelines and ESA constraints. Provisions in section 5.3.2 state that the goals are to help secure recreational seasons extending at least from Memorial Day through Labor Day when possible, assist in maintaining commercial markets even at relatively low stock sizes, and fully utilize available harvest. To accomplish this, deviations from the allocation schedule are explicitly allowed under section 5.3.2 of the FMP to meet consultation standards for ESA-listed stocks. The alternative adopted by this rule provides for recreational coho salmon fishing in the Cape Falcon to Humbug Mountain area from June 15 through mid-August and during the month of September (or 25,000 coho salmon quota), 7 days per week during the open period. It also includes a non-mark-selective commercial troll coho salmon fishery from September 1 through the earlier of September 30 or a 2,500 coho salmon quota, much lower than the 10,000 quota included in Alternative III. The alternative adopted by this rule meets the provisions in section 5.3.2 of the FMP by providing for recreational fishing throughout most of the Memorial Day through Labor Day period and maintaining commercial markets in utilizing the available harvest given the constraints on the fishery to meet consultation standards for ESA-listed coho salmon stocks and to meet 2024 conservation objectives for KRFC and SRFC stocks.

Comment 2: Any measures to govern commercial troll fisheries in September and October in the area between Cape Falcon and Humbug Mountain should be adopted subject to potential additional management measures being implemented that are designed to address conservation concerns regarding Oregon Coast fall Chinook salmon stocks and the maintenance of traditional ocean and in-river fall recreational fisheries.

Response: Based on coded-wire tag recoveries in ocean and terminal fisheries and in escapement, more than 80 percent of the fishing-related mortality on Oregon Coast Chinook salmon stocks that occurs in all southern U.S. salmon fisheries occurs in State waters including in-river fisheries. In-river fisheries are managed by the Oregon Fish and Game Commission and are outside Federal jurisdiction. However, under the provisions of the FMP, states can propose to request changes to the ocean and recreational fisheries management measures via inseason action. Any inseason action must be consistent with escapement goals, conservation of the salmon resource, any federally recognized Indian fishing rights, applicable sharing provisions, and consideration of the factors listed in section 10.2 of the FMP.

Comment 3: One commenter expressed concerns over the large amount of SRFC harvest allocated to the in-river fishery under Alternatives II and III which, they argued, did not seem realistic, or fair and equitable. They observed that some stakeholders suggested that in-river harvest projections under Alternatives II and III implicitly incorporate additional conservation buffers for SRFC escapement because in-river fisheries are unlikely to be implemented that realize PRE II's projected harvest levels. If this is the case, any anticipated buffers and their impacts on conservation objectives should be explicitly discussed to foster a transparent public process.

Response: The measures in this final rule do not incorporate implicit or undisclosed buffers. The expectation that some in-river allocation would not be harvested in the interest of conservation of SRFC was clarified and discussed by the Council in adopting the final alternative. The California Department of Fish and Wildlife (CDFW) stated “CDFW requested that the Council designed fisheries to minimize impacts in all Council-managed fisheries that encounter SRFC and KRFC stocks and it's CDFW's desire that all foregone harvest of these stocks be put towards escapement this fall.” See Agenda Item E.6.a Supplemental CDFW Report 1: CDFW Letter to the Council. CDFW clarified during Council discussion that its intent was to close all salmon fishing in California waters and would make that recommendation to the California Fish and Game Commission which has jurisdiction over freshwater fisheries in California. The report clarified to the public that the intent of the CDFW was to forego in-river harvest of SRFC and to allow those fish to contribute to escapement. Consistent with the commenter's interest in a transparent process, that information was available for public comment during Council discussion at the April meeting.

The final rule reflects consideration of these comments and generally includes aspects of all three alternatives, while considering the best available scientific information, the best use of limited opportunity given impacts to stocks of concern, and ensuring that fisheries are consistent with impact limits and accountability measures for ESA-listed species, ACLs, PST obligations, MSA requirements, and tribal fishing rights.

2024 Specifications and Management Measures

The ocean harvest levels and management measures for the 2024 fisheries are designed to apportion the burden of protecting the weak stocks identified and discussed in PRE I equitably among ocean fisheries and to provide harvest opportunity of natural and hatchery runs surplus to inside fishery and spawning needs. Based on the information provided in the four Council documents described above, the EA, and discussion at the Council meetings, and taking into account public comments, NMFS concludes the recommended measures are consistent with the requirements of the MSA, the ESA, U.S. obligations to Indian tribes with federally recognized fishing rights, and U.S. international obligations regarding Pacific salmon. Accordingly, NMFS, through this final rule, approves and implements the Council's recommendations.

The timing of the March and April Council meetings makes it impracticable for the Council to recommend fishing seasons that begin before mid-May of the same year. Therefore, this action also establishes the early season fisheries that opens earlier than May 16, 2025. The commercial and recreational seasons will open in 2024 as indicated under the “Season Description” headings (in “Section 1. Commercial, Non-Indian, Troll Fishery Management Measures” and “Section 2. Recreational Fishery Management”) of this final rule. NMFS may take inseason action to adjust the commercial and recreational seasons that occur prior to May 16, 2025, as needed. The Treaty Indian ocean troll seasons will open in 2025 as indicated under the “Season Description” headings (in “Section 3. Treaty Indian Management Measures”). In 2025, the Treaty Indian ocean troll season will open May 1, consistent with all preseason regulations in place for Treaty Indian Troll fisheries during May 16-June 30, 2024. This opening could be modified via inseason action.

Sections 1, 2, and 3 below set out the final specifications and management measures for the commercial, recreational, and Treaty Indian ocean salmon fisheries for 2024 and, as specified, for 2025. Section 4 provides requirements for halibut retention; section 5 provides geographical landmarks; and section 6 specifies notice procedures for inseason modifications. Those elements of the measures set forth in sections 1 through 3 that refer to fisheries implemented prior to May 16, 2024, were promulgated in our 2023 rule (88 FR 29690, May 11, 2023), as modified by inseason action, and are included for information only and to provide continuity for the public and for states adopting conforming regulations each May that refer to the Federal rule for the same year.

Section 1. Commercial, Non-Indian Fishery Management Measures

Parts A, B, and C of this section contain the requirements for participation in the 2024 commercial, non-Indian, salmon troll fishery. Part A identifies fishing seasons and areas, from north to south, the salmon species allowed to be caught during the seasons, and any other special restrictions effective in the area. Part B specifies minimum size limits. Part C specifies other requirements, definitions, restrictions, and exceptions.

Inseason modifications of the regulations may be necessary under certain conditions to fulfill objectives. Inseason actions include “fixed” or “flexible” actions as decribed in 50 CFR 660.409.

A. Season, Area, and Species Descriptions

—North of Cape Falcon, OR

May 16 through the earlier of June 29, or when NMFS announces the attainment of 24,600 Chinook salmon.

Catch limits in place for the following areas:

—U.S./Canada border to Queets River: 5,600 Chinook salmon.

—Leadbetter Point to Cape Falcon: 5,710 Chinook salmon.

Landing and possession limits are in place for the following areas. Landing week is Thursday through Wednesday. Landing limits will be evaluated weekly inseason.

Landing and possession limit of 150 Chinook salmon per vessel combined across all subareas per landing week.

—U.S./Canada border to Queets River: 60 Chinook salmon per vessel per landing week.

—Queets River to Leadbetter Point: 150 Chinook salmon per vessel per landing week.

—Leadbetter Point to Cape Falcon: 60 Chinook salmon per vessel per landing week.

Open 7 days per week. All salmon, except coho salmon.

If the Chinook salmon quota is exceeded, the excess will be deducted from the all-salmon season.

In 2025, the season will open May 1.

—U.S./Canada border to Leadbetter Point

July 1 through the earlier of September 15, or the U.S./Canada border to Cape Falcon quotas of 16,400 Chinook salmon or 15,200 marked coho salmon.

—Leadbetter Point to Cape Falcon

July 1 through the earlier of September 30, or the U.S./Canada border to Cape Falcon quotas of 16,400 Chinook salmon or 15,200 marked coho salmon.

Open 7 days per week. All salmon. All coho salmon must be marked with a healed adipose fin clip. No chum salmon retention north of Cape Alava, WA in August and September.

July 1-10: Landing possession limit of 70 Chinook salmon and 100 marked coho salmon per vessel for the open period.

Beginning July 11: Landing possession limit of 120 Chinook salmon and 100 marked coho salmon per vessel per landing week (Thursday-Wednesday).

Landing limits will be evaluated weekly inseason.

For all commercial troll fisheries north of Cape Falcon: Mandatory closed areas include the Salmon Troll Yelloweye Rockfish Conservation Area (YRCA), Cape Flattery, and Columbia Control Zones. Grays Harbor Control Zone closed beginning August 12.

Vessels must land and deliver their salmon within 24 hours of any closure of this fishery.

Vessels may not land fish east of the Sekiu River or east of Tongue Point, OR.

Vessels fishing for or in possession of salmon north of Leadbetter Point must land and deliver all species of fish in a Washington port and must possess a Washington troll and/or salmon delivery license. For delivery to Washington ports south of Leadbetter Point, vessels must notify Washington Department of Fish and Wildlife (WDFW) at 360-249-1215 prior to crossing the Leadbetter Point line with area fished, total Chinook salmon, coho salmon, and halibut catch aboard, and destination with approximate time of delivery. During any single trip, only one side of the Leadbetter Point line may be fished.

Vessels fishing or in possession of salmon while fishing south of Leadbetter Point must land and deliver all species of fish within the area and south of Leadbetter Point, except that Oregon permitted vessels may also land all species of fish in Garibaldi, OR. All Chinook salmon caught north of Cape Falcon and being delivered by boat to Garibaldi, OR, must meet the minimum legal total length for Chinook salmon for south of Cape Falcon seasons unless the season in waters off Garibaldi, OR, have been closed for Chinook salmon retention for more than 48 hours (see C.1).

Under State law, vessels must report their catch on a State fish receiving ticket. Oregon State regulations require all fishers landing salmon into Oregon from any fishery between Leadbetter Point and Cape Falcon to notify the Oregon Department of Fish and Wildlife (ODFW) within 1 hour of delivery or prior to transport away from the port of landing by either calling 541-857-2546 or sending notification via email to nfalcon.trollreport@odfw.oregon.gov. Notification shall include vessel name and number, number of salmon by species, port of landing and location of delivery, and estimated time of delivery. Inseason actions may modify harvest guidelines in later fisheries to achieve or prevent exceeding the overall allowable troll harvest impacts.

Vessels in possession of salmon north of the Queets River may not cross the Queets River line without first notifying WDFW at 360-249-1215 with area fished, total Chinook salmon, coho salmon, and halibut catch abroad, and destination. Vessels in possession of salmon south of the Queets River may not cross the Queets River line without first notifying WDFW at 360-249-1215 with area fished, total Chinook salmon, coho salmon, and halibut catch aboard, and destination. Inseason actions may modify harvest guidelines in later fisheries to achieve or prevent exceeding the overall allowable troll harvest impacts.

Vessels fishing in a subarea north of Cape Falcon with a higher limit may transit through and land in a subarea with a lower limit. Prior to crossing the subarea line at Leadbetter Point or Queets River, vessels must notify WDFW at 360-249-1215 with area fished, total Chinook salmon, coho salmon, and halibut catch aboard, and destination with approximate time of delivery.

South of Cape Falcon, OR

—Cape Falcon to Humbug Mountain

April 16, 2024-May 29;

June 1-5; 12-16; 26-30;

July 26-30;

August 4-8;

September 1-October 31.

Open 7 days per week. All salmon, except coho salmon except for in the non-mark selective coho salmon fishery described below. All vessels fishing in the area must land their salmon in the State of Oregon.

Non-mark-selective coho salmon fishery:

September 1 through the earlier of September 30 or a 2,500 coho salmon quota, no more than 25 coho salmon allowed per vessel per landing week (Thursday-Wednesday). If the coho salmon quota is met prior to September 30, then all salmon except coho salmon season continues. Mandatory reporting is required as described below:

Under State law, vessels must report their catch on a State fish receiving ticket. Oregon State regulations require all fishers landing coho salmon in Oregon from any fishery between Cape Falcon and Humbug Mountain to notify ODFW within 1 hour of delivery or prior to transport away from the port of landing by either calling 541-857-2546 or sending notification via email to nfalcon.trollreport@odfw.oregon.gov. Notification shall include vessel name and number, number of salmon by species, port of landing and location of delivery, and estimated time of delivery.

Beginning September 1, no more than 75 Chinook salmon allowed per vessel per landing week (Thursday-Wednesday).

In 2025, the season will open March 15 for all salmon except coho salmon. Gear restrictions same as in 2024.

—Humbug Mountain to Oregon/California border (Oregon Klamath Management Zone (KMZ))

April 16-30, 2024.

Open 7 days per week. All salmon, except coho salmon. All vessels fishing in the area must land their salmon in the State of Oregon.

In 2025, the season will open March 15 for all salmon except coho salmon. Gear restrictions same as in 2024.

—Oregon/California border to Humboldt South Jetty (California KMZ)

Closed in 2024.

In 2025, the season will open May 1 through the earlier of May 31, or a 3,000 Chinook salmon quota. Landing and possession limit of 25 Chinook salmon per vessel per week. Open 5 days per week (Friday-Tuesday). All salmon except coho salmon. Any remaining portion of Chinook salmon quotas may be transferred inseason on an impact neutral basis to the next open quota period. All fish caught in this area must be landed within the area, within 24 hours of any closure of the fishery and prior to fishing outside the area. Electronic Fish Tickets must be submitted within 24 hours of landing. Klamath Control Zone closed (see C.5.e). See California State regulations for an additional closure adjacent to the Smith River.

—Humboldt South Jetty to Latitude 40°10′ N

Closed in 2024.

—Latitude 40°10′ N to Point Arena (Fort Bragg)

Closed in 2024.

In 2025, the season opens April 16 for all salmon except coho salmon Gear restrictions same as in 2022. Harvest guidelines and vessel-based landing and possession limits may be considered inseason. Inseason action to close fisheries, modify season dates, or modify vessel-based landing and possession limits may be considered when total commercial harvest in this management area is approaching its harvest guideline.

Electronic Fish Tickets must be submitted within 24 hours of landing.

—Point Arena to Pigeon Point (San Francisco)

Closed in 2024.

In 2025, the season opens May 1 for all salmon except coho salmon. Gear restrictions same as in 2022. Inseason action to close fisheries, modify season dates, or modify vessel-based landing and possession limits may be considered when total commercial harvest in this management area is approaching its harvest guideline . Electronic Fish Tickets must be submitted within 24 hours of landing.

—Pigeon Point to the U.S./Mexico border (Monterey)

Closed in 2024.

In 2025, the season opens May 1 for all salmon except coho salmon. Gear restrictions same as in 2022. Harvest guidelines and vessel-based landing and possession limits may be considered inseason. Inseason action to close fisheries, modify season dates, or modify vessel-based landing and possession limits may be considered when total commercial harvest in this management area is approaching its harvest guideline. Electronic Fish Tickets must be submitted within 24 hours of landing.

When the fishery is closed from Humbug Mountain to the Oregon/California border and open to the south, vessels with fish on board caught in the open area off California may seek temporary mooring in Brookings, OR, prior to landing in California only if such vessels first notify the Chetco River U.S. Coast Guard (USCG) Station via very high frequency (VHF) channel 22A between the hours of 0500 and 2200 and provide the vessel name, number of fish on board, and estimated time of arrival.

California State regulations require all salmon be made available to a CDFW representative for sampling immediately at port of landing. Any person in possession of a salmon with a missing adipose fin, upon request by an authorized agent or employee of the CDFW, shall immediately relinquish the head of the salmon to the State (California Fish and Game Code section 8226).

B. Minimum Size (Inches)

Table 1—Minimum Size Limits for Salmon in the 2024 Commercial Ocean Salmon Fisheries
Area (when open) | Chinook salmon: Total length | Chinook salmon: Head-off | Coho salmon: Total length | Coho salmon: Head-off | Pink
North of Cape Falcon, OR | 27 | 20.5 | 16 | 12 | None.
Cape Falcon to Humbug Mountain | 28 | 21.5 | 16 | 12 | None.
Humbug Mountain to OR/CA border | 28 | 21.5 |  |  | None.
OR/CA border to Humboldt South Jetty
Lat. 40°10′0″ N to Point Arena
Point Arena to Pigeon Point
Pigeon Point to U.S./Mexico border
Metric equivalents: 28.0 in = 71.1 cm, 27.0 in = 68.5 cm, 26 in = 66 cm, 21.5 in = 54.6 cm, 20.5 in = 52.1 cm, 19.5 in = 49.5 cm, 16.0 in = 40.6 cm, and 12.0 in = 30.5 cm.

C. Requirements, Definitions, Restrictions, or Exceptions

C.1. Compliance With Minimum Size or Other Special Restrictions

All salmon on board a vessel must meet the minimum size, landing/possession limit, or other requirements for the area being fished and the area in which they are landed if the area is open or has been closed less than 48 hours for that species of salmon. Salmon may be landed in an area that has been closed for a species of salmon more than 48 hours only if they meet the minimum size, landing/possession limit, or other special requirements for the area in which they were caught. Salmon may not be filleted prior to landing.

Any person who is required to report a salmon landing by applicable State law must include on the State landing receipt for that landing both the number and weight of salmon landed by species. States may require fish landing/receiving tickets be kept on board the vessel for 90 days or more after landing to account for all previous salmon landings.

C.2. Gear Restrictions

a. Salmon may be taken only by hook and line using single point, single shank, barbless hooks.

b. Cape Falcon to the Oregon/California border: No more than four spreads are allowed per line.

c. Oregon/California border to U.S./Mexico border: No more than six lines are allowed per vessel, and barbless circle hooks are required when fishing with bait by any means other than trolling.

C.3. Gear Definitions

Trolling: Fishing from a boat or floating device that is making way by means of a source of power other than drifting by means of the prevailing water current or weather conditions.

Troll fishing gear: One or more lines that drag hooks behind a moving fishing vessel engaged in trolling. In that portion of the fishery management area off Oregon and Washington, the line or lines must be affixed to the vessel and must not be intentionally disengaged from the vessel at any time during the fishing operation.

Spread: A single leader connected to an individual lure and/or bait.

Circle hook: A hook with a generally circular shape and a point which turns inward, pointing directly to the shank at a 90° angle.

C.4. Vessel Operation in Closed Areas With Salmon on Board

a. Except as provided under C.4.b below, it is unlawful for a vessel to have troll or recreational gear in the water while in any area closed to fishing for a certain species of salmon while possessing that species of salmon; however, fishing for species other than salmon is not prohibited if the area is open for such species and no salmon are in possession.

b. When Genetic Stock Identification (GSI) samples will be collected in an area closed to commercial salmon fishing, the scientific research permit holder shall notify NOAA Office of Law Enforcement, USCG, CDFW, WDFW, ODFW, and Oregon State Police at least 24 hours prior to sampling and provide the following information: the vessel name, date, location, and time collection activities will be done. Any vessel collecting GSI samples in a closed area shall not possess any salmon other than those from which GSI samples are being collected. Salmon caught for collection of GSI samples must be immediately released in good condition after collection of samples.

C.5. Control Zone Definitions

a. Cape Flattery Control Zone—The area from Cape Flattery (48°23′00″ N lat.) to the northern boundary of the U.S. EEZ; and the area from Cape Flattery south to Cape Alava (48°10′00″ N lat.) and east of 125°05′00″ W long.

b. Salmon Troll Yelloweye Rockfish Conservation Area—The area in Washington Marine Catch Area 3 from 48°00.00′ N lat.; 125°14.00′ W long. to 48°02.00′ N lat.; 125°14.00′ W long. to 48°02.00′ N lat.; 125°16.50′ W long. to 48°00.00′ N lat.; 125°16.50′ W long. and connecting back to 48°00.00′ N lat.; 125°14.00′ W long.

c. Grays Harbor Control Zone—The area defined by a line drawn from the Westport Lighthouse (46°53′18″ N lat., 124°07′01″ W long.) to Buoy #2 (46°52′42″ N lat., 124°12′42″ W long.) to Buoy #3 (46°55′00″ N lat., 124°14′48″ W long.) to the Grays Harbor north jetty (46°55′36″ N lat., 124°10′51″ W long.).

d. Columbia Control Zone—An area at the Columbia River mouth, bounded on the west by a line running northeast/southwest between the red lighted Buoy #4 (46°13′35″ N lat., 124°06′50″ W long.) and the green lighted Buoy #7 (46°15′09″ N lat., 124°06′16″ W long.); on the east, by the Buoy #10 line which bears north/south at 357° true from the south jetty at 46°14′00″ N lat.,124°03′07″ W long. to its intersection with the north jetty; on the north, by a line running northeast/southwest between the green lighted Buoy #7 to the tip of the north jetty (46°15′48″ N lat., 124°05′20″ W long.), and then along the north jetty to the point of intersection with the Buoy #10 line; and, on the south, by a line running northeast/southwest between the red lighted Buoy #4 and tip of the south jetty (46°14′03″ N lat., 124°04′05″ W long.), and then along the south jetty to the point of intersection with the Buoy #10 line.

e. Klamath Control Zone—The ocean area at the Klamath River mouth bounded on the north by 41°38′48″ N lat. (approximately 6 nmi (11 km) north of the Klamath River mouth); on the west by 124°23′00″ W long. (approximately 12 nmi (22 km) off shore); and on the south by 41°26′48″ N lat. (approximately 6 nmi (11 km) south of the Klamath River mouth).

f. Waypoints for the 40-fathom (73-meter) regulatory line from Cape Falcon to Humbug Mountain (50 CFR 660.71 (o)(12)-(62)), when in place.

C.6. Notification When Unsafe Conditions Prevent Compliance With Regulations

If prevented by unsafe weather conditions or mechanical problems from meeting special management area landing restrictions, vessels must notify the USCG and receive acknowledgment of such notification prior to leaving the area. This notification shall include the name of the vessel, port where delivery will be made, approximate number of salmon (by species) on board, the estimated time of arrival, and the specific reason the vessel is not able to meet special management area landing restrictions.

In addition to contacting the USCG, vessels fishing south of the Oregon/California border must notify CDFW within 1 hour of leaving the management area by calling 800-889-8346 and providing the same information as reported to the USCG. All salmon must be offloaded within 24 hours of reaching port.

C.7. Incidental Halibut Harvest

Permit applications for incidental harvest of halibut during commercial salmon fishing must be obtained from the NMFS WCR Permits Office.

a. Pacific halibut retained must be no less than 32 inches (81.3 cm) in total length, measured from the tip of the lower jaw with the mouth closed to the extreme end of the middle of the tail, and must be landed with the head on.

b. During the salmon troll season, incidental harvest is allowed if quota is available. WDFW, ODFW, and CDFW will monitor landings. NMFS may make inseason adjustments to the landing restrictions to assure that the incidental harvest rate is appropriate for salmon and halibut availability, does not encourage target fishing on halibut, and does not increase the likelihood of exceeding the quota for this fishery, and may prohibit retention of halibut in the non-Indian salmon troll fishery if there is risk in exceeding the subquota for the salmon troll fishery or the non-tribal commercial fishery allocation. Inseason adjustments will be announced on the NMFS hotline (phone: 800-662-9825 or 206-526-6667). See the most current Pacific Halibut Catch Sharing Plan for more details.

c. Incidental Pacific halibut catch regulations in the commercial salmon troll fishery adopted for 2024, prior to any 2024 inseason action, will be in effect when incidental Pacific halibut retention opens on April 1, 2024.

d. Incidental Pacific halibut retention begins May 16, 2024, through the end of the 2024 salmon troll fishery, and April 1, 2025, until modified through inseason action or superseded by the 2025 management measures. Permit holders may land or possess no more than 1 Pacific halibut per 2 Chinook salmon, except 1 Pacific halibut may be possessed or landed without meeting the ratio requirement, and no more than 35 halibut may be possessed or landed per trip.

e. “C-shaped” yelloweye rockfish conservation area is an area to be voluntarily avoided for salmon trolling. NMFS and the Council request salmon trollers voluntarily avoid this area in order to protect yelloweye rockfish. The area is defined in the Pacific Council Halibut Catch Sharing Plan in the North Coast subarea (Washington Marine Area 3), with the following coordinates in the order listed:

48°18′ N lat.; 125°18′ W long.;

48°18′ N lat.; 124°59′ W long.;

48°11′ N lat.; 124°59′ W long.;

48°11′ N lat.; 125°11′ W long.;

48°04′ N lat.; 125°11′ W long.;

48°04′ N lat.; 124°59′ W long.;

48°00′ N lat.; 124°59′ W long.;

48°00′ N lat.; 125°18′ W long.;

and connecting back to 48°18′ N lat.; 125°18′ W long.

C.8. Inseason Management

In addition to standard inseason actions or modifications:

a. Chinook salmon remaining from the May through June non-Indian commercial troll harvest guideline north of Cape Falcon may be transferred to the July through September harvest guideline if the transfer would not result in exceeding preseason impact expectations on any stocks.

b. Chinook salmon remaining from May, June, and/or July non-Indian commercial troll quotas in the Oregon or California KMZ may be transferred to the Chinook salmon quota for the next open period if the transfer would not result in exceeding preseason impact expectations on any stocks.

c. NMFS may transfer salmon between the recreational and commercial fisheries north of Cape Falcon if there is agreement among the areas' representatives on the Salmon Advisory Subpanel (SAS), and if the transfer would not result in exceeding preseason impact expectations on any stocks.

d. The Council will consider inseason recommendations for special regulations for any experimental fisheries annually in March; proposals must meet Council protocol and be received in November the year prior.

e. If retention of unmarked coho salmon (adipose fin intact) is permitted by inseason action, the allowable coho salmon quota will be adjusted to ensure preseason projected impacts on all stocks is not exceeded.

f. Landing limits may be modified inseason to sustain season length and keep harvest within overall quotas.

g. Deviations from the allocation of allowable ocean harvest of coho salmon in the area south of Cape Falcon may be allowed to meet consultation standards for ESA-listed stocks (FMP 5.3.2). Therefore, because 2024 fisheries are constrained to meet ESA-conservation objectives as described in the preamble to the rule, any rollovers resulting in a deviation from the south of Cape Falcon coho salmon allocation schedule would fall underneath this exemption.

C.9. State Waters Fisheries

Consistent with Council management objectives:

a. The State of Oregon may establish additional late-season fisheries in State waters.

b. The State of California may establish limited fisheries in selected State waters.

c. Check State regulations for details.

C.10. California KMZ Definition: The California KMZ for the ocean salmon season shall be that area from Humbug Mountain, OR, to Latitude 40°10′ N.

C.11. Latitudes for geographical reference of major landmarks along the West Coast are listed in section 5 of this final rule.

C.12. California 24-hour reporting requirements: Salmon harvested under quota or harvest limit regulations must be reported within 24 hours of landing via electronic fish tickets. Electronic fish tickets shall be completed at the time of the receipt, purchase, or transfer of fish, whichever occurs first, and shall contain the number of salmon landed. Once transfer of fish begins, all fish aboard the vessel are counted as part of the landing. The electronic fish ticket is a web-based form submitted through the “E-Tix” application, managed by the Pacific States Marine Fisheries Commission and located at https://etix.psmfc.org.

Section 2. Recreational Fishery Management Measures

Parts A, B, and C of this section contain requirements for participation in the 2024 recreational ocean salmon fishery. Part A identifies fishing areas from north to south, the open seasons for the area, and the salmon species allowed to be caught during the seasons. Part B specifies minimum size limits. Part C specifies special requirements, definitions, restrictions, and exceptions. All measures are subject to inseason management.

A. Season Description

North of Cape Falcon, OR

—U.S./Canada border to Cape Alava (Neah Bay Subarea)

June 22 through earlier of September 15, or 8,300 marked coho salmon subarea quota, with a subarea guideline of 9,430 Chinook salmon.

Open 7 days per week. All salmon, except no chum salmon beginning August 1; two salmon per day, of which only one may be a Chinook salmon. All coho salmon must be marked with a healed adipose fin clip.

Beginning August 1, Chinook salmon non-retention east of the Bonilla-Tatoosh line during Federal ocean fishery

—Cape Alava to Queets River (La Push Subarea)

June 22 through earlier of September 15, or 2,070 marked coho salmon subarea quota, with a subarea guideline of 1,630 Chinook salmon.

Open 7 days per week. All salmon, except no chum salmon, beginning August 1; two salmon per day, of which only one may be a Chinook salmon. All coho salmon must be marked with a healed adipose fin clip.

—Queets River to Leadbetter Point (Westport Subarea)

June 30-July 11 open 5 days per week (Sunday-Thursday);

July 14 through earlier of September 15, or 29,530 marked coho salmon subarea quota, with a subarea guideline of 17,430 Chinook salmon open 7 days per week.

All salmon, two salmon per day, no more than one of which may be a Chinook salmon. All coho salmon must be marked with a healed adipose fin clip.

Prior to September 16, possession of salmon on board a vessel is prohibited on days when the subarea is closed to salmon retention.

Grays Harbor Control Zone closed beginning August 12.

—Leadbetter Point to Cape Falcon (Columbia River Subarea)

June 22 through earlier of September 30, or 39,900 marked coho salmon subarea quota, with a subarea guideline of 12,510 Chinook salmon.

Open 7 days per week. All salmon, two salmon per day, no more than one of which may be a Chinook salmon. All coho salmon must be marked with a healed adipose fin clip.

Columbia Control Zone closed.

South of Cape Falcon

—Cape Falcon to Humbug Mountain

March 15, 2024-October 31.

Open 7 days per week. All salmon except coho salmon, except as provided below during the all-salmon mark-selective coho salmon fishery and the non-mark-selective coho salmon fishery, two fish per day.

Beginning October 1, the fishery is only open shoreward of the 40-fathom (73-meters) management line.

In 2025, the season will open March 15 for all salmon except coho salmon, two salmon per day (see C.1). Same gear restrictions as in 2024.

Mark-selective coho salmon fishery:

—Cape Falcon to Oregon/California Border

Cape Falcon to Humbug Mountain: June 15 through the earlier of August 18, or the Cape Falcon to Oregon/California border quota of 45,000 marked coho salmon.

Humbug Mountain to Oregon/California border: June 15 through the earlier of August 4, or the Cape Falcon to Oregon/California border quota of 45,000 marked coho salmon.

Open 7 days per week. All salmon, two salmon per day. All retained coho salmon must be marked with a healed adipose fin clip.

Any remainder of the mark-selective coho salmon quota may be transferred inseason on an impact neutral basis to the September non-mark-selective coho salmon fishery from Cape Falcon to Humbug Mountain.

Non-mark-selective coho salmon fishery:

—Cape Falcon to Humbug Mountain

September 1 through the earlier of September 30, or 25,000 coho salmon quota.

Open 7 days per week. All salmon, two salmon per day.

—Humbug Mountain to Oregon/California border (Oregon KMZ)

May 16-August 31.

Open 7 days per week. All salmon except coho salmon, except as provided above during the mark-selective coho salmon fishery from Cape Falcon to the Oregon/California border (June 15-August 4), two salmon per day.

For recreational fisheries from Cape Falcon to Humbug Mountain: Fishing in the Stonewall Bank YRCA is restricted to trolling only on days the all-depth recreational halibut fishery is open (call the halibut fishing hotline 1-800-662-9825 for specific dates) (see C.3.b, C.4.d).

—Oregon/California border to latitude 40°10′ N (California KMZ)

Closed in 2024.

In 2025, the season opens April 5 for all salmon except coho salmon, two salmon per day. Gear restrictions same as in 2022 (see C.2, C.3). Inseason action to close fisheries, modify season dates, or modify the bag limit may be considered when sport harvest is approaching a harvest guideline.

—Latitude 40°10′ N to Point Arena (Fort Bragg)

Closed in 2024.

In 2025, the season opens April 5 for all salmon except coho salmon, two salmon per day. Gear restrictions same as in 2022. Inseason action to close fisheries, modify season dates, or modify the bag limit may be considered when sport harvest is approaching a harvest guideline.

—Point Arena to Pigeon Point (San Francisco)

Closed in 2024.

In 2025, the season opens April 5 for all salmon except coho salmon, two salmon per day. Gear restrictions same as in 2022.

—Pigeon Point to U.S./Mexico border (Monterey)

Closed in 2024.

In 2025, the season opens April 5 for all salmon except coho salmon, two salmon per day. Gear restrictions same as in 2022. Inseason action to close fisheries, modify season dates, or modify the bag limit may be considered when total sport harvest is approaching a harvest guideline.

California State regulations require all salmon be made available to a CDFW representative for sampling immediately at port of landing. Any person in possession of a salmon with a missing adipose fin, upon request by an authorized agent or employee of the CDFW, shall immediately relinquish the head of the salmon to the State (California Code of Regulations, title 14, section 1.73).

B. Minimum Size (Total Length in Inches)

Table 2—Minimum Size Limits for Salmon in the 2024 Recreational Salmon Fisheries
Area (when open) | Chinook salmon | Coho salmon | Pink salmon
North of Cape Falcon (Neah Bay and La Push) | 24.0 | 16.0 | None.
North of Cape Falcon (Westport and Columbia River) | 22.0 | 16.0 | None.
Cape Falcon to Humbug Mountain | 24.0 | 16.0 | None.
Humbug Mountain to Oregon/California border | 24.0 | 16.0 | None.
Oregon/California border to Point Arena |  |  |
Point Arena to Pigeon Point |  |  |
Pigeon Point to U.S./Mexico border |  |  |
Metric equivalents: 24.0 in = 61.0 cm, 22.0 in = 55.9 cm, 20.0 in = 50.8 cm, and 16.0 in = 40.6 cm.

C. Requirements, Definitions, Restrictions, or Exceptions

C.1. Compliance With Minimum Size and Other Special Restrictions

All salmon on board a vessel must meet the minimum size or other special requirements for the area being fished and the area in which they are landed if that area is open. Salmon may be landed in an area that is closed only if they meet the minimum size or other special requirements for the area in which they were caught. Salmon may not be filleted, or salmon heads removed prior to landing.

Ocean boat limits: Off the coast of Washington, Oregon, and California, each fisher aboard a vessel may continue to use angling gear until the combined daily limits of Chinook salmon and coho salmon for all licensed and juvenile anglers aboard have been attained (additional State restrictions may apply).

C.2. Gear Restrictions

Salmon may be taken only by hook and line using barbless hooks. All persons fishing for salmon and all persons fishing from a boat with salmon on board must meet the gear restrictions listed below for specific areas or seasons.

a. U.S./Canada border to Point Conception, CA: No more than one rod may be used per angler; and no more than two single point, single shank, barbless hooks are required for all fishing gear.

b. Latitude 40°10′ N to Point Conception, CA: Single point, single shank, barbless circle hooks (see gear definitions below) are required when fishing with bait by any means other than trolling, and no more than two such hooks shall be used. When angling with two hooks, the distance between the hooks must not exceed 5 inches (12.7 cm) when measured from the top of the eye of the top hook to the inner base of the curve of the lower hook, and both hooks must be permanently tied in place (hard tied). Circle hooks are not required when artificial lures are used without bait.

C.3. Gear Definitions

a. Recreational fishing gear: Off Oregon and Washington, angling tackle consists of a single line that must be attached to a rod and reel held by hand or closely attended; the rod and reel must be held by hand while playing a hooked fish. No person may use more than one rod and line while fishing off Oregon or Washington. Off California, the line must be attached to a rod and reel held by hand or closely attended; weights directly attached to a line may not exceed 4 pounds (1.8 kg). While fishing off California north of Point Conception, no person fishing for salmon, and no person fishing from a boat with salmon on board, may use more than one rod and line. Fishing includes any activity which can reasonably be expected to result in the catching, taking, or harvesting of fish.

b. Trolling: Angling from a boat or floating device that is making way by means of a source of power, other than drifting by means of the prevailing water current or weather conditions.

c. Circle hook: A hook with a generally circular shape and a point which turns inward, pointing directly to the shank at a 90° angle.

C.4. Control Zone Definitions

a. The Bonilla-Tatoosh Line: A line running from the western end of Cape Flattery to Tatoosh Island Lighthouse (48°23′30″ N lat., 124°44′12″ W long.) to the buoy adjacent to Duntze Rock (48°24′37″ N lat., 124°44′37″ W long.), then in a straight line to Bonilla Point (48°35′39″ N lat., 124°42′58″ W long.) on Vancouver Island, British Columbia.

b. Grays Harbor Control Zone: The area defined by a line drawn from the Westport Lighthouse (46°53′18″ N lat., 124°07′01″ W long.) to Buoy #2 (46°52′42″ N lat., 124°12′42″ W long.) to Buoy #3 (46°55′00″ N lat., 124°14′48″ W long.) to the Grays Harbor north jetty (46°55′36″ N lat., 124°10′51″ W long.).

c. Columbia Control Zone: An area at the Columbia River mouth, bounded on the west by a line running northeast/southwest between the red lighted Buoy #4 (46°13′35″ N lat., 124°06′50″ W long.) and the green lighted Buoy #7 (46°15′09 ″ N lat., 124°06′16″ W long.); on the east, by the Buoy #10 line which bears north/south at 357° true from the south jetty at 46°14′00″ N lat., 124°03′07″ W long. to its intersection with the north jetty; on the north, by a line running northeast/southwest between the green lighted Buoy #7 to the tip of the north jetty (46°15′48″ N lat., 124°05′20″ W long. and then along the north jetty to the point of intersection with the Buoy #10 line; and on the south, by a line running northeast/southwest between the red lighted Buoy #4 and tip of the south jetty (46°14′03″ N lat., 124°04′05″ W long.), and then along the south jetty to the point of intersection with the Buoy #10 line.

d. Stonewall Bank YRCA: The area defined by the following coordinates in the order listed:

44°37.46′ N lat.; 124°24.92′ W long.

44°37.46′ N lat.; 124°23.63′ W long.

44°28.71′ N lat.; 124°21.80′ W long.

44°28.71′ N lat.; 124°24.10′ W long.

44°31.42′ N lat.; 124°25.47′ W long.

and connecting back to 44°37.46′ N lat.; 124°24.92′ W long.

e. Klamath Control Zone: The ocean area at the Klamath River mouth bounded on the north by 41°38′48″ N lat. (approximately 6 nmi (11 km) north of the Klamath River mouth); on the west by 124°23′00″ W long. (approximately 12 nmi (22 km) offshore); and, on the south by 41°26′48″ N lat. (approximately 6 nmi (11 km) south of the Klamath River mouth).

f. Waypoints for the 40-fathom (73-meters) regulatory line from Cape Falcon to Humbug Mountain (50 CFR 660.71(o)(12) through (62)), when in place.

C.5. Inseason Management

Regulatory modifications may become necessary inseason to meet preseason management objectives such as quotas, harvest guidelines, and season duration. Actions could include modifications to bag limits, or days open to fishing, and extensions or reductions in areas open to fishing. Any changes will be communicated via telephone hotline numbers 206-526-6667 and 800-662-9825, and by USCG Notice to Mariners broadcasts on Channel 16 VHF-FM and 2182 kHz.

a. Coho salmon may be transferred inseason among recreational subareas north of Cape Falcon to help meet the recreational season duration objectives (for each subarea) after conferring with representatives of the affected ports and the Council's SAS recreational representatives north of Cape Falcon, and if the transfer would not result in exceeding preseason impact expectations on any stocks.

b. Chinook salmon and coho salmon may be transferred between the recreational and commercial fisheries north of Cape Falcon if there is agreement among the representatives of the SAS, and if the transfer would not result in exceeding preseason impact expectations on any stocks.

c. Fishery managers may consider inseason action modifying regulations restricting retention of unmarked (adipose fin intact) coho salmon. To remain consistent with preseason expectations, any inseason action shall consider, if significant, the difference between observed and preseason forecasted (adipose-clipped) mark rates. Such a consideration may also include a change in bag limit of two salmon, no more than one of which may be a coho salmon.

d. Marked coho salmon remaining from the Cape Falcon to Oregon/California border. A recreational mark-selective coho salmon quota may be transferred inseason to the Cape Falcon to Humbug Mountain non-mark-selective recreational fishery if the transfer would not result in exceeding preseason impact expectations on any stocks.

f. Deviations from the allocation of allowable ocean harvest of coho salmon in the area south of Cape Falcon may be allowed to meet consultation standards for ESA-listed stocks (FMP 5.3.2). Therefore, because 2024 fisheries are constrained to meet ESA-conservation objectives as described in the preamble to the rule, any rollovers resulting in a deviation from the south of Cape Falcon coho salmon allocation schedule would fall underneath this exemption.

C.6. Additional Seasons in State Territorial Waters

The States of Washington, Oregon, and California may establish limited seasons in State waters. Check State regulations for details.

Section 3. Treaty Indian Management Measures

Parts A, B, and C of this section contain requirements that must be followed for lawful participation in the 2024 Treaty Indian salmon fishery.

In 2025, the season will open May 1, consistent with all preseason regulations in place for Treaty Indian troll fisheries during May 16-June 30, 2024. All catch in May 2025 applies against the 2025 Treaty Indian Troll fisheries quota.

A. Season Descriptions

May 1 through the earlier of June 30 or 21,250 Chinook salmon quota.

All salmon may be retained except coho salmon. If the Chinook salmon quota is exceeded, the excess will be deducted from the later all-salmon season. See size limit and other restrictions.

July 1 through the earlier of September 15, or 21,500 Chinook salmon quota or 42,500 coho salmon quota.

All salmon. See size limit and other restrictions.

B. Minimum Size (Inches)

Table 3—Minimum Size Limits for Salmon in the 2024 Treaty Indian Ocean Salmon Fisheries
Area (when open) | Chinook salmon: Total length | Chinook salmon: Head-off | Coho salmon: Total length | Coho salmon: Head-off | Pink
North of Cape Falcon | 24.0 | 18.0 | 16.0 | 12.0 | None.
Metric equivalents: 24.0 in = 61.0 cm, 18.0 in = 45.7 cm, 16.0 in = 40.6 cm, 12.0 in = 30.5 cm.

C. Requirements, Definitions, Restrictions, or Exceptions

C.1. Tribe and Area Boundaries

All boundaries may be changed to include such other areas as may hereafter be authorized by a Federal court for that tribe's treaty fishery.

S'KLALLAM—Washington State Statistical Area 4B (defined to include those waters of Puget Sound easterly of a line projected from the Bonilla Point light on Vancouver Island to the Tatoosh Island light, thence to the most westerly point on Cape Flattery and westerly of a line projected true north from the fishing boundary marker at the mouth of the Sekiu River [Washington Administrative Code 220-301-030]).

MAKAH—Washington State Statistical Area 4B and that portion of the Fishery Management Area (FMA) north of 48°02′15″ N lat. (Norwegian Memorial) and east of 125°44′00″ W long.

QUILEUTE—A polygon commencing at Cape Alava, located at lat. 48°10′00″ N, long. 124°43′56.9″ W; then proceeding west approximately 40 nmi (74 km) at that latitude to a northwestern point located at lat. 48°10′00″ N, long. 125°44′00″ W; then proceeding in a southeasterly direction mirroring the coastline at a distance no farther than 40 nmi (74 km) from the mainland Pacific coast shoreline at any line of latitude, to a southwestern point at lat. 47°31′42″ N, long. 125°20′26″ W; then proceeding east along that line of latitude to the Pacific coast shoreline at lat. 47°31′42″ N, long. 124°21′9.0″ W.

HOH—A polygon commencing at the Pacific coast shoreline near the mouth of the Quillayute River, located at lat. 47°54′30″ N, long. 124°38′31″ W; then proceeding west approximately 40 nmi (74.08 km) at that lat. to a northwestern point located at lat. 47°54′30″ N, long. 125°38′18″ W; then proceeding in a southeasterly direction mirroring the coastline at a distance no farther than 40 nmi (74.08 km) from the mainland Pacific coast shoreline, to a point located at lat. 47°31′42″ N, long. 125°20′26″ W, then proceeding east along that line of lat. approximately 10 nmi (18.52 km) to a point located at latitude 47°31′42″ N, long. 125°5′48″ W, then proceeding in a southeasterly direction mirroring the coastline at a distance no farther than 30 nmi (55.56 km) from the mainland Pacific coast shoreline to a point located at lat. 47°21′00″ N, long. 125°2′52″ W; then proceeding east along that line of lat. to the Pacific coast shoreline near the mouth of the Quinault River, located at lat. 47°21′00″ N, long. 124°18′8″ W.

QUINAULT—A polygon commencing at the Pacific coast shoreline near Destruction Island, located at lat. 47°40′06″ N, long. 124°23′51.362″ W; then proceeding west approximately 30 nmi (55.6 km) at that latitude to a northwestern point located at lat. 47°40′06″ N, long. 125°08′30″ W; then proceeding in a southeasterly direction mirroring the coastline no farther than 30 nm (55.6 km) from the mainland Pacific coast shoreline at any line of latitude to a southwestern point at lat. 46°53′18″ N, long. 124°53′53″ W; then proceeding east along that line of latitude to the Pacific coast shoreline at lat. 46°53′18″ N, long. 124°7′36.6″ W.

C.2. Gear Restrictions

a. Single point, single shank, barbless hooks are required in all fisheries.

b. No more than eight fixed lines per boat.

c. No more than four hand-held lines per person in the Makah area fishery (Washington State Statistical Area 4B and that portion of the FMA north of 48°02′15″ N lat. (Norwegian Memorial) and east of 125°44′00″ W long.)

C.3. Quotas

a. The quotas include troll catches by the S'Klallam and Makah Tribes in Washington State Statistical Area 4B from May 1 through the earlier of September 15.

b. The Quileute Tribe may continue a ceremonial and subsistence fishery during the time frame of October 1 through October 15 in the same manner as in 2004—2015. Fish taken during this fishery are to be counted against treaty troll quotas established for the 2024 season (estimated harvest during the October ceremonial and subsistence fishery: 20 Chinook salmon; 40 coho salmon).

c. The treaty troll tribes may conduct an experimental fishery through the month of September for gathering GSI data to inform potential impacts in future years of the treaty Indian ocean troll fishery. Potential impacts from this non-retention experimental fishery are accounted for in the modeling associated with the treaty Indian ocean troll fishery.

C.4. Area Closures

a. The area within a 6 nmi (11 km) radius of the mouths of the Queets River (47°31′42″ N lat.) and the Hoh River (47°45′12″ N lat.) will be closed to commercial fishing.

b. A closure within 2 nmi (3.7 km) of the mouth of the Quinault River (47°21′00″ N lat.) may be enacted by the Quinault Nation and/or the State of Washington and will not adversely affect the Secretary of Commerce's management regime.

C.5. Inseason Management

In addition to standard inseason actions or modifications already noted under the “Season Description” heading above, the following applies:

a. Chinook salmon remaining from the May through June treaty-Indian ocean troll harvest guideline north of Cape Falcon may be transferred to the July through September harvest guideline on a fishery impact equivalent basis.

Section 4. Halibut Retention

Vessels participating in the salmon troll fishery in Area 2A that have obtained the appropriate permit may retain halibut caught incidentally during authorized periods in conformance with provisions published with the Pacific Halibut Fisheries Catch Sharing Plan 2024 annual management measures (89 FR 19275, March 18, 2024). A salmon troller may participate in the halibut incidental catch fishery during the salmon troll season or in the directed commercial fishery targeting halibut, but not both.

Permit applications for incidental harvest must be obtained from the WCR Permits Office (phone: 562-980-4238 or wcr-permits@noaa.gov). No 2024 permits are available; applicants must apply prior to March 1 for 2025 permits. If the sub-quota for this fishery has not been harvested during the April-June portion of the salmon troll fishery, then incidental halibut harvest will be allowed in July and continue until the amount of halibut that was initially available as the quota for the troll fishery is taken or until the end of the season date for commercial halibut is determined by NMFS and implemented in the Federal Register (typically early October). If the landings are projected to exceed the 44,001 pounds (19,959 kg) preseason allocation or the total Area 2A non-Indian commercial halibut allocation, NMFS will take inseason action to prohibit retention of halibut in the non-Indian salmon troll fishery.

Incidental halibut harvest regulations, including season dates, management measures, and TAC for each International Pacific Halibut Commission (IPHC) management area, are listed under C.7 of section 1 (Commercial, Non-Indian, Troll Fishery Management Measures).

Section 5. Geographical Landmarks

Geographical landmarks referenced in this document are at the following locations:

U.S./Canada border | 49°00′00″ N lat.
Cape Flattery, WA | 48°23′00″ N lat.
Cape Alava, WA | 48°10′00″ N lat.
Queets River, WA | 47°31′42″ N lat.
Leadbetter Point, WA | 46°38′10″ N lat.
Cape Falcon, OR | 45°46′00″ N lat.
South end Heceta Bank Line, OR | 43°58′00″ N lat.
Humbug Mountain, OR | 42°40′30″ N lat.
Oregon-California border | 42°00′00″ N lat.
Humboldt South Jetty, CA | 40°45′53″ N lat.
40°10′ line (near Cape Mendocino, CA) | 40°10′00″ N lat.
Horse Mountain, CA | 40°05′00″ N lat.
Point Arena, CA | 38°57′30″ N lat.
Point Reyes, CA | 37°59′44″ N lat.
Point San Pedro, CA | 37°35′40″ N lat.
Pigeon Point, CA | 37°11′00″ N lat.
Point Sur, CA | 36°18′00″ N lat.
Point Conception, CA | 34°27′00″ N lat.
U.S./Mexico border | 34°27′00″ N lat.

Section 6. Inseason Notice Procedures

Notice of inseason management actions will be provided by a telephone hotline administered by the WCR, NMFS, 800-662-9825 or 206-526-6667, and by USCG Notice to Mariners broadcasts. These broadcasts are announced on Channel 16 VHF-FM and 2182 KHz at frequent intervals. The announcements designate the channel or frequency over which the Notice to Mariners will be immediately broadcast. Inseason actions will also be published in the Federal Register as soon as practicable. Since provisions of these management measures may be altered by inseason actions, fishermen should monitor either the telephone hotline or USCG broadcasts for current information for the area in which they are fishing.

Classification

NMFS is issuing this rule pursuant to section 305(d) of the MSA. In a previous action taken pursuant to section 304(b), the Council designed the FMP to authorize NMFS to take this action pursuant to MSA section 305(d). See 50 CFR 660.408. These regulations are being promulgated under the authority of 16 U.S.C. 1855(d) and 16 U.S.C. 773(c).

This final rule has been determined to be not significant for purposes of Executive Order 12866.

The Assistant Administrator for Fisheries finds good cause under 5 U.S.C. 553(b)(B), to waive the requirement for prior notice and opportunity for public comment, as such procedures would be impracticable and contrary to the public interest. The annual salmon management cycle begins May 16 and continues through May 15 of the following year. These harvests constitute a relatively small portion of the annual catch, allowing for the majority of the season to be governed by the new management measures rule. The time frame of the preseason process for determining the annual modifications to ocean salmon fishery management measures depends on when the pertinent biological data are available. Salmon stocks are managed to meet annual spawning escapement goals or specific exploitation rates. Achieving either of these objectives requires designing management measures that are appropriate for the ocean abundance predicted for that year. These pre-season abundance forecasts, which are derived from previous years observed spawning escapement, vary substantially from year to year and are not available until February because spawning escapement continues through the fall.

The planning and public review process associated with developing the regulations is initiated in February as soon as the forecast information becomes available. The process requires coordination of management actions of four States, numerous Indian tribes, and the Federal Government, as well as consideration of information from the Pacific Salmon Commission that is not available until April 1 of each year. All of these entities have management authority over the stocks. This complex process includes the affected user groups as well as the general public. Providing the opportunity for prior notice and public comments on the measures through a proposed and final rulemaking process would require 30 to 60 days in addition to the 2-month period required for the development of the regulations. Delaying the implementation of annual fishing regulations, which are based on the current stock abundance projections, for an additional 30-60 days would require that fishing regulations for May and June be set in the previous year, without the benefit of information regarding current stock abundance. For the 2024 fishing regulations, the current stock abundance was not available until February. In addition, information related to northern fisheries and stock status in Alaska and Canada, which is important to assess the amount of salmon available to U.S. ocean fisheries, is not available until April 1. Because a substantial amount of fishing normally occurs during late May and June, managing the fishery with measures developed using the prior year's data could have significant adverse effects on the managed stocks, including ESA-listed stocks. Although salmon fisheries that open prior to May 16 are managed under measures developed the previous year (with some inseason modifications), relatively little harvest occurs during that period (e.g., on average, 10 percent of commercial and recreational harvest occurred prior to May 1 during the years 2011 through 2018). Allowing the much more substantial harvest levels normally associated with the late May and June salmon seasons to be promulgated under the prior year's regulations would impair NMFS' ability to protect weak and ESA-listed salmon stocks and to provide harvest opportunities where appropriate. The choice of May 16 as the beginning of the regulatory season balances the need to gather and analyze the data needed to meet the management objectives of the salmon FMP and the need to manage the fishery using the best available scientific information.

If the 2024 measures are not in place on May 16, salmon fisheries will not open as scheduled. This would result in lost fishing opportunities, negative economic impacts, and confusion for the public as the State fisheries adopt concurrent regulations that conform to the Federal management measures.

In addition, these measures were developed with significant public input. As described above, oral and written public comment was received and considered throughout the process of developing these management measures. Based upon the above-described public comment already received and need to have these measures effective on May 16, NMFS has concluded it would be impracticable and contrary to the public interest to provide an opportunity for prior notice and public comment under 5 U.S.C. 553(b)(B).

The Assistant Administrator for Fisheries also finds that good cause exists under 5 U.S.C. 553(d)(3), to waive the 30-day delay in the date of effectiveness of this final rule. As previously discussed, data were not available until February, and management measures were not finalized until mid-April. These measures are essential to conserve threatened and endangered ocean salmon stocks as well as potentially overfished stocks, and to provide for the harvest of more abundant stocks. Delaying the date of effectiveness of these measures by 30 days could compromise the ability of some stocks to attain their conservation objectives, preclude harvest opportunity, and negatively impact anticipated international, State, and tribal salmon fisheries, thereby undermining the purposes of this agency action and the requirements of the MSA.

To enhance the fishing industry's notification of these new measures, and to minimize the burden on the regulated community required to comply with the new regulations, NMFS is announcing the new measures over the telephone hotline (800-662-9825 or 206-526-6667) used for inseason management actions and is posting the regulations on its WCR website (https://www.fisheries.noaa.gov/region/west-coast). NMFS is also advising the States of Washington, Oregon, and California of the new management measures. These States announce the seasons for applicable State and Federal fisheries through their own public notification systems.

Because prior notice and an opportunity for public comment are not required to be provided for this rule by 5 U.S.C. 553, or any other law, the analytical requirements of the Regulatory Flexibility Act, 5 U.S.C. 601 et seq., are not applicable. Accordingly, no Regulatory Flexibility Analysis is required for this rule and none has been prepared.

This action contains collection-of-information requirements subject to the Paperwork Reduction Act (PRA), and which have been approved by the Office of Management and Budget (OMB) under control number 0648-0433. The current information collection approval expires on November 30, 2026. The public reporting burden for providing notifications if landing area restrictions cannot be met is estimated to average 15 minutes per response. This estimate includes the time for reviewing instructions, searching existing data sources, gathering and maintaining the data needed, and completing and reviewing the collection of information.

Notwithstanding any other provision of the law, no person is required to respond to, nor shall any person be subject to a penalty for failure to comply with, a collection of information subject to the requirements of the PRA, unless that collection of information displays a currently valid OMB control number.

This final rule was developed after meaningful consultation with the tribal representative on the Council who has agreed with the provisions that apply to tribal vessels.

Authority: 16 U.S.C. 773-773k; 1801 et seq.

Dated: May 15, 2024.
Samuel D. Rauch, III,
Deputy Assistant Administrator for Regulatory Programs, National Marine Fisheries Service.

[FR Doc. 2024-11046 Filed 5-16-24; 4:15 pm]

BILLING CODE 3510-22-P